DEPARTMENT OF THE INTERIOR

Fish and Wildlife Service

[FWS-R5-R-2014-N078; BAC-4311-K9]

Monomoy National Wildlife Refuge, Chatham, MA; Draft Comprehensive Conservation Plan and Environmental Impact Statement

AGENCY: Fish and Wildlife Service, Interior.

ACTION: Notice of availability; extension of public comment period.

SUMMARY: We, the U.S. Fish and Wildlife Service (Service), advise the public that we are extending the public review and comment period for the draft comprehensive conservation plan (CCP) and environmental impact statement (EIS) for Monomoy National Wildlife Refuge (NWR).

DATES: To ensure consideration, we must receive your written comments by October 10, 2014. We will hold public meetings during the public comment period. In addition, we will use special mailings, newspaper articles, Web site postings, and other media announcements to inform people of opportunities for input, including details on when and where public meetings will occur.

ADDRESSES: Send your comments or requests for more information by any one of the following methods:

• Email: northeastplanning@fws.gov. Include “Monomoy NWR Draft CCP/EIS” in the subject line of the message.

• Fax: Attention: Libby Herland, Project Leader, 978-443-2898.

• U.S. Mail: Attention: Libby Herland, Project Leader, Eastern Massachusetts National Wildlife Refuge Complex, 73 Weir Hill Road, Sudbury, MA 01776.

• In-Person Drop Off: You may drop off comments during regular business hours at the above address.

You will find the draft CCP/EIS, an Executive Summary, as well as information about the planning process, on the refuge's Web site: http://www.fws.gov/refuge/monomoy/what_we_do/conservation.html.

FOR FURTHER INFORMATION CONTACT: Libby Herland, 978-443-4661, x 11.

SUPPLEMENTARY INFORMATION:

Introduction

On April 10, 2014, we published a Federal Register notice (79 FR 19920) announcing the availability of the draft CCP/EIS for Monomoy NWR for public review and comment in accordance with National Environmental Policy Act (40 CFR 1506.6(b)) requirements. We originally opened the comment period from April 10, 2014, to June 9, 2014. We are extending the public comment period until October 10, 2014, in response to requests we have received from town of Chatham officials and local residents. For more information on the draft CCP/EIS and the planning process we followed, please see the April 2014 notice.

Public Involvement

We will give the public an opportunity to provide input at public meetings. You can obtain the schedule from the addresses or Web site listed in this notice (see ADDRESSES). You may also submit written comments anytime during the public comment period.

Public Availability of Comments

Before including your address, phone number, email address, or other personal identifying information in your comment, you should be aware that your entire comment—including your personal identifying information—may be made publicly available at any time. While you can ask us in your comment to withhold your personal identifying information from public review, we cannot guarantee that we will be able to do so.

Dated: June 10, 2014.
Deborah Rocque,
Acting Regional Director, Northeast Region.

[FR Doc. 2014-15129 Filed 6-26-14; 8:45 am]

BILLING CODE 4310-55-P